DEPARTMENT OF ENERGY

Federal Energy Regulatory Commission

[Docket No. ER11-4628-000]

PJM Interconnection, L.L.C.; Notice of Staff Technical Conference

On December 14, 2011, the Commission issued an order in this proceeding establishing a technical conference to explore the issues presented by PJM Interconnection, L.L.C.'s (PJM) filing.¹ Take notice that the technical conference will be held on February 14, 2012 beginning at approximately 10 a.m. (EDT) at the Commission's headquarters, located at 888 First Street NE., Washington, DC 20426. The conference will consist of a presentation by PJM addressing the questions listed in the December 14 Order interspersed with questions from Commission staff. To expedite the conference, PJM is requested to file written answers to the Commission's questions by February 10, 2012.

¹ PJM Interconnection, L.L.C., 137 FERC ¶ 61,204 (2011) (December 14 Order).

All interested parties are invited to attend. Registration is not required.

Parties seeking additional information regarding this conference should contact Tristan Cohen at Tristan.Cohen@ferc.gov or (202) 502-6598.

Dated: January 18, 2012.
Kimberly D. Bose,
Secretary.

[FR Doc. 2012-1465 Filed 1-24-12; 8:45 am]

BILLING CODE 6717-01-P